DEPARTMENT OF HEALTH AND HUMAN SERVICES

National Committee on Vital and Health Statistics: Meeting

Pursuant to the Federal Advisory Committee Act, the Department of Health and Human Services (HHS) announces the following advisory committee program.

Name: National Committee on Vital and Health Statistics (NCVHS), Subcommittee on Standards.

Date and Times:

Tuesday, August 6, 2019: 9 a.m.-5:30 p.m. (EDT)

Wednesday, August 7, 2019: 8:30 a.m.-3 p.m. (EDT)

Place: U.S. Department of Health and Human Services, Hubert H. Humphrey Building, 200 Independence Avenue SW, Rm. 705-A, Washington, DC 20201.

Status: Open.

There will be an opportunity for public comment at the end of the second day of the meeting.

Purpose: The NCVHS Charter calls for the Committee to “Study the issues related to the adoption of uniform data standards for patient medical record information and the electronic exchange of such information and report to the Secretary of Health and Human Services (HHS) recommendations and legislative proposals for such standards and electronic exchange.” Further, the Committee is to “Advise the Department on health data collection needs and strategies; review and monitor the Department's data and information systems to identify needs, opportunities, and problems.” Terminologies and vocabularies are also a dimension of the Committee's charge as part of advising the Secretary and reporting to Congress on adoption of standards under the Administrative Simplification provisions of the Health Insurance Portability and Accountability Act (HIPAA).

Through the Subcommittee on Standards, the Committee conducted a comprehensive environmental scan of the state of health terminologies and vocabularies in the US. The environmental scan findings are detailed in the Report, “Health Terminologies and Vocabularies Environmental Scan” completed in September 2018.ⁱ The Committee also hosted an expert roundtable meeting in July 2018 to review and comment on the environmental scan and to discuss current challenges and future adoption needs and pathways.ⁱⁱ

ⁱ NCVHS Health Terminologies and Vocabularies Environmental Scan. https://ncvhs.hhs.gov/wp-content/uploads/2018/10/Report-Health-Terminologies-and-Vocabularies-Environmental-Scan.pdf.

ⁱⁱ NCVHS The Health Terminologies and Vocabularies Expert Roundtable Meeting Summary, July 17-18, 2018. https://ncvhs.hhs.gov/wp-content/uploads/2018/09/Report-Health-Terminologies-and-Vocabularies-Expert-Roundtable-Report.pdf.

Based on this work, developing recommendations to the Secretary regarding adoption and use of the new version of the International Classification of Diseases (ICD-11) in the US is one of the near-term areas of obligation identified by the Committee for focus in 2019. The World Health Organization (WHO) released ICD-11 in June 2018 so countries could preview and begin their planning. In May 2019, the World Health Assembly voted to approve adoption of ICD-11 with an effective date of January 1, 2022. ICD-11 is intended by the WHO for use for both mortality (i.e., cause of death) reporting and morbidity (i.e., diseases) reporting.

The goal of this expert roundtable meeting is to identify research questions to inform evaluation of the benefit and cost of transition from ICD-10 to ICD-11 for mortality and morbidity. Specific meeting objectives include:

• Developing a shared understanding of lessons from the ICD-10 planning process/transition and the differences between ICD-10 and ICD-11.

• Reaching consensus on the research questions to be answered to inform evaluation of cost and benefit of transition from ICD-10 to ICD-11 for mortality and morbidity—and to identify impacts of not moving to ICD-11 for morbidity.

• Identifying key topics and messages to communicate to the industry to foster early stakeholder engagement and preparation for the transition to ICD-11.

The times and topics for this meeting are subject to change. Please refer to the posted agenda at www.ncvhs.hhs.gov for updates.

Contact Persons for More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the NCVHS website: www.ncvhs.hhs.gov, where further information including a meeting agenda and instructions to access the live broadcast of the meeting will be posted.

Should you require reasonable accommodation, please contact the CDC Office of Equal Employment Opportunity on (770) 488-3210 as soon as possible.

Sharon Arnold,
Associate Deputy Assistant Secretary for Planning and Evaluation, Science and Data Policy, Office of the Assistant Secretary for Planning and Evaluation.

[FR Doc. 2019-14375 Filed 7-5-19; 8:45 am]

BILLING CODE 4151-05-P